DEPARTMENT OF THE INTERIOR

National Park Service

[NPS-WASO-NRNHL-DTS#-34551; PPWOCRADI0, PCU00RP14.R50000]

National Register of Historic Places; Notification of Pending Nominations and Related Actions

AGENCY: National Park Service, Interior.

ACTION: Notice.

SUMMARY: The National Park Service is soliciting electronic comments on the significance of properties nominated before September 10, 2022, for listing or related actions in the National Register of Historic Places.

DATES: Comments should be submitted electronically by October 7, 2022.

ADDRESSES: Comments are encouraged to be submitted electronically to National_Register_Submissions@nps.gov with the subject line “Public Comment on <property or proposed district name, (County) State>” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 10, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

ARKANSAS

Desha County

Old Piney Cemetery, US 278, approx. 2.7 mi. west of jct. with Cty. Rd. 74, ⅛ mi. north of US 287, Monticello, SG100008278

IDAHO

Ada County

Meridian Speedway, 355 South Main St., Meridian, SG100008284

Buckner, Aurelius and Dorothy, House (African American Civil Rights in Idaho MPS), 1012 North 19th St., Boise, MP100008287

LOUISIANA

Lafayette Parish

Arceneaux, Louis J. and Marie Amelia, House, 134 Rose Ln., Lafayette, SG100008285

Natchitoches Parish

Kisatchie School, 1811 LA 118 West, Provencal, SG100008286

TEXAS

Smith County

Tyler Downtown Historic District, Roughly bounded by West Front St., Border Ave., Cotton Belt RR tracks, and Fannin Ave., Tyler, SG100008283

Additional documentation has been received for the following resources:

MARYLAND

Frederick County

Brunswick Historic District, Roughly bounded by Potomac River, Central, Park and 10th Aves., and C St., Brunswick, AD79001128

WEST VIRGINIA

Mercer County

Bramwell Additions Historic District (Boundary Increase) (Additional Documentation), Parts of Bluestone Ave., Clifton St., Renova St., Simmons Ave., Simmons St. and Spring St., Bramwell, AD05000400

Nomination submitted by Federal Preservation Officer:

The State Historic Preservation Officer reviewed the following nomination and responded to the Federal Preservation Officer within 45 days of receipt of the nomination and supports listing the property in the National Register of Historic Places.

TEXAS

Howard County

Big Spring Veterans Administration Hospital (United States Third Generation Veterans Hospitals, 1946-1958 MPS), 300 Veterans Blvd., Big Spring, MP100008282

(Authority: Section 60.13 of 36 CFR part 60)

Dated: September 13, 2022.
Sherry A. Frear,
Chief, National Register of Historic Places/National Historic Landmarks Program.

[FR Doc. 2022-20566 Filed 9-21-22; 8:45 am]

BILLING CODE 4312-52-P